DEPARTMENT OF COMMERCE

National Oceanic and Atmospheric Administration

RIN 0648-XA446

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting.

DATES: The meeting will be held June 6-10, 2011.

ADDRESSES: The meeting will be held at the Marriott Beachside Hotel, 3841 N. Roosevelt Boulevard, Key West, FL 33040; telephone: (305) 296-8100.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, June 8, 2011

4 p.m.—The Council meeting will begin with a review of the agenda and approval of the minutes.

4:15 p.m.-4:30 p.m.—The Council will receive a presentation titled “Fisheries 101”.

4:30 p.m.-5:15 p.m.—The Council will review and discuss reports from the committee meetings as follows: Advisory Panel Selection; Data Collection; Budget/Personnel. The Council will conclude its meeting at approximately 5:15 p.m.

Thursday, June 9, 2011

8:30 a.m.-12:30 p.m.—The Council will receive public testimony on exempted fishing permits (EFPs), if any; Final Action on the Reef Fish Amendment 32; Generic Annual Catch Limits/Accountability Measures Amendment; and Joint Spiny Lobster Amendment 10; South Atlantic Portion of Joint Amendment 18 to the Coastal Migratory Pelagics Fishery Management Plan; and hold an open public comment period regarding any other fishery issues of concern. People wishing to speak before the Council should complete a public comment card prior to the comment period.

2 p.m.-5 p.m.—The Council will review and discuss the Reef Fish Committee Report.

Friday, June 10, 2011

8:30 a.m.-11:30 a.m.—The Council will review and discuss reports from the committee meetings as follows: Sustainable Fisheries/Ecosystem.

1 p.m.-2:15 p.m.—The Council will receive presentations on the Revised National Standard 10 Guidelines and on the Gulf Coast Ecosystems Restoration Task Force.

2:15 p.m.-4:15 p.m.—The Council will continue to review and discuss reports from the committee meetings as follows: Joint Gulf and South Atlantic Full Councils re: Spiny Lobster and Mackerel.

4:15 p.m.-4:45 p.m.—Other Business items will follow. The Council will conclude its meeting at approximately 4:45 p.m.

Committees

Monday, June 6, 2011

8:30 a.m.-12 noon & 1:30 p.m.-5 p.m.—The Reef Fish Management Committee will discuss Reef Fish Amendment 32; Re-run of Gag and Red Grouper Projections using 2009 and 2010 Landings; Re-run of Red Snapper Projections using 2009 and 2010 Landings; review SEDAR 22 Yellowedge Grouper and Tilefish (Golden) Stock Assessments; Options Paper for a Greater Amberjack Amendment to Adjust TAC; Draft to Eliminate Fixed Fall Red Snapper Closed Season; Options Paper for Earned Income and Crew Size; Discuss consultant-Based Fishing; discuss a Open Red Snapper IFQ to all U.S. Citizens.

—Recess—

Tuesday, June 7, 2011

8:30 a.m.-11:30 a.m.—The Joint Gulf & South Atlantic Spiny Lobster Management Committees will review and potentially take final action on Joint Spiny Lobster Amendment 10.

1 p.m.-1:30 p.m.—The Data Collection Committee will meet to receive a summary and recommendations of the Vessel Monitoring Systems Advisory Panel.

1:30 p.m.-4:30 p.m.—The Sustainable Fisheries/Ecosystem Management Committee will review and potentially take final action on the Generic Annual Catch Limits/Accountability Measures Amendment. The Committee will also review the Circle Hook Symposium report.

4:30 p.m.-5 p.m.—Closed Session—The Advisory Panel Selection Committee/Full Council will meet to appoint an Ad Hoc Headboat IFQ Advisory Panel and possibly a replacement to the Shrimp Advisory Panel.

—Recess—

Wednesday, June 8, 2011

8:30 a.m.-9:30 a.m.—The Budget/Personnel Committee will receive a report on the 2011 Council budget.

9:30 a.m.-11:30 a.m.—The Sustainable Fisheries/Ecosystem Management Committee will continue to review the Generic Annual Catch Limits/Accountability Measures Amendment and Circle Hook Symposium report.

1 p.m.-4 p.m.—The Joint Gulf & South Atlantic Mackerel Management Committees will review Public Hearing Draft Amendment 18 to the Coastal Migratory Pelagics Fishery Management Plan.

—Recess—

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: May 18, 2011.
Tracey L. Thompson,
Acting Director, Office of Sustainable Fisheries, National Marine Fisheries Service.

[FR Doc. 2011-12550 Filed 5-20-11; 8:45 am]

BILLING CODE 3510-22-P